DEPARTMENT OF COMMERCE

National Oceanic and Atmospheric Administration

RIN 0648-XD616

Western Pacific Fishery Management Council; Public Meeting

AGENCY: National Marine Fisheries Service (NMFS), National Oceanic and Atmospheric Administration (NOAA), Commerce.

ACTION: Notice of public meetings.

SUMMARY: The Western Pacific Fishery Management Council (Council) will hold a meeting in Hawaii in December 2014 regarding social science in the fishery management council process.

DATES: The meeting will be held Wednesday, December 17, 2014, Thursday, December 18, 2014, and Friday, December 19, 2014 from 8:30 a.m. to 5 p.m.

ADDRESSES: The meeting will take place at the Council office, 1164 Bishop Street, Suite 1400, Honolulu, HI; telephone: (808) 522-8220. Site visits for meeting participants to points of interest on the Fishing Community of Oahu will be conducted on Friday, December 19, 2014.

FOR FURTHER INFORMATION CONTACT: Kitty M. Simonds, Executive Director; telephone: (808) 522-8220.

SUPPLEMENTARY INFORMATION: The order in which agenda items are addressed may change. The meetings will run as late as necessary to complete scheduled business.

Schedule and Agenda for Meeting

8:30 a.m.-5 p.m. Wednesday, December 17, 2014

1. Welcome

2. Introductions

3. Workshop overview

4. Addressing Federal Regulations I

5. Addressing Federal Regulations II

8:30 a.m.-5 p.m. Thursday, December 18, 2014

6. Social Impact Assessment: Regional Approaches

7. Data Collection I (Methods)

8. Data Collection II (Indicators)

9. Data Analysis and Social Impact Assessment Writing

10. Social Impact Assessment: Predictions vs. Actual

11. Next Steps

8:30 a.m.-5 p.m. Friday, December 19, 2014

1. Oahu Fishing Community Site Visits

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: November 19, 2014.
Tracey L. Thompson,
Acting Deputy Director, Office of Sustainable Fisheries, National Marine Fisheries Service.

[FR Doc. 2014-27769 Filed 11-24-14; 8:45 am]

BILLING CODE 3510-22-P